DEPARTMENT OF ENERGY

Federal Energy Regulatory Commission

Sunshine Act Meeting

December 10, 2003.

Take notice that all Commissioners, members of the Federal Energy Regulatory Commission, will participate in a press conference immediately following the Commission's open meeting scheduled for December 17, 2003, at the offices of the Federal Energy Regulatory Commission, 888 First Street, NE., Washington, DC 20426. The press conference will be open to the public.

This Notice is issued pursuant to the Government in the Sunshine Act, 5 U.S.C. 552b.

For further information, please contact Bryan Lee at 202-502-8004.

Magalie R. Salas,
Secretary.

[FR Doc. E3-00571 Filed 12-15-03; 3:07 pm]

BILLING CODE 6717-01-P